DEPARTMENT OF JUSTICE

Notice of Lodging of Stipulation and Order Under the Comprehensive Environmental Response, Compensation and Liability Act and the Clean Water Act

Notice is hereby given that on June 17, 2008, a proposed Stipulation and Order (“Stipulation”) in In re Dana Corporation, et al., Civil Action No. 07-8160 (SAS) (Jointly Administered Bankruptcy Case No. 06-10354) was lodged with the United States District Court for the Southern District of New York.

In this action, the United States filed proofs of claim in the bankruptcy proceedings of debtor Dana Corporation and 40 of its affiliates (“Dana”) seeking reimbursement of response costs incurred and to be incurred under the Comprehensive Environmental Response, Compensation and Liability Act, 42 U.S.C. 9601, et seq. (“CERCLA”); civil penalties under CERCLA and the Clean Water Act, 33 U.S.C. 1251, et seq.; and natural resource damages under CERCLA.

The Stipulation settles these claims on behalf of the Environmental Protection Agency (“EPA”) for response costs at the following six Superfund sites: (1) The Cornell-Dubilier Electronics, Inc. Site, located in South Plainfield, New Jersey (the “CDE Site”); (2) the West Highway 6 and Highway 281 Site, located in Hastings, Nebraska; (3) the Lakeland Landfill Disposal Services, Inc. Site, located near Claypool, Indiana; (4) the Main Street Well Field Site, East Side, located in Elkhart, Indiana; (5) the Solvents Recovery Service of New England, Inc. Site, located in Southington, Connecticut; and (6) the Tremont City Barrel Fill Site, located in Tremont City, Ohio.

The Stipulation also settles EPA's claims against Dana for civil penalties under the Clean Water Act at Dana's former facility located in Muskegon, Michigan; and under sections 103(a) and 109 of CERCLA, 42 U.S.C. 9603(a) and 9609, at Dana's former facility located in Bellefontaine, Ohio. Finally, the Stipulation settles claims on behalf of the Department of the Interior (“Interior”) and the National Oceanic and Atmospheric Administration (“NOAA”) pursuant to CERCLA, 42 U.S.C. 9607(a)(4)(c) and 9607(f), for natural resource damages with respect to the CDE Site.

Under this settlement, EPA, NOAA, and Interior will receive allowed general unsecured claims in Dana's bankruptcy totaling $125,670,252. Pursuant to the terms of Dana's court-approved plan of reorganization, the United States will receive a distribution of stock in Dana Holding Corp. The United States will sell all stock it receives in connection with the settlement. Thus, the amount actually recovered by the United States as a result of the settlement will be determined in part by the market value of the shares at the time of the sale.

The Department of Justice will receive, for a period of thirty (30) days from the date of this publication, comments relating to the Stipulation. Comments should be addressed to the Assistant Attorney General, Environment and Natural Resources Division, and either e-mailed to pubcomment-ees.enrd@usdoj.gov or mailed to P.O. Box 7611, U.S. Department of Justice, Washington, DC 20044-7611, and should refer to In re Dana Corporation, et al., D.J. Ref. 90-11-3-531/4.

The Stipulation may be examined at the Office of the United States Attorney, 86 Chambers Street, 3rd Floor, New York, New York 10007, at U.S. EPA Region 2, Office of Regional Counsel, 290 Broadway, New York, New York 10007-1866, and EPA Region 7, Office of Regional Counsel, 901 N. 5th Street, Kansas City, KS 66101. During the public comment period, the Stipulation may also be examined on the following Department of Justice Web site, http://www.usdoj.gov/enrd/Consent_Decrees.html. A copy of the Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Ronald Gluck,
Assistant Chief, Environmental Enforcement Section, Environment and Natural Resources Division.

FR Doc. E8-14704 Filed 6-27-08; 8:45 am]

BILLING CODE 4410-CW-P